CONSUMER PRODUCT SAFETY COMMISSION

[Docket No. CPSC-2010-0041]

Agency Information Collection Activities; Extension of Collection; Comment Request; Publicly Available Consumer Product Safety Information Database

AGENCY: Consumer Product Safety Commission.

ACTION: Notice of information collection; request for comment.

SUMMARY: As required by the Paperwork Reduction Act of 1995 (PRA), the Consumer Product Safety Commission (CPSC or Commission) requests comments on a proposed extension of approval of information collection requirements associated with the Publicly Available Consumer Product Safety Information Database. The Office of Management and Budget (OMB) previously approved the collection of information under control number 3041-0146. OMB's approval will expire on March 31, 2026. The Commission will consider all comments received in response to this notice before requesting an extension of this collection of information from OMB.

DATES: Submit comments on the collection of information by February 17, 2026.

ADDRESSES: You may submit comments, identified by Docket No. CPSC-2010-0041, within 60 days of publication of this notice by any of the following methods:

Electronic Submissions: Submit electronic comments to the Federal eRulemaking Portal at: https://www.regulations.gov. Follow the instructions for submitting comments. Do not submit through this website: confidential business information, trade secret information, or other sensitive or protected information that you do not want to be available to the public. The Commission typically does not accept comments submitted by email, except as described below.

Mail/hand delivery/courier/written submissions: CPSC encourages you to submit electronic comments by using the Federal eRulemaking Portal. You may, however, submit comments by mail/hand delivery/courier to: Office of the Secretary, U.S. Consumer Product Safety Commission, 4330 East-West Highway, Bethesda, MD 20814; telephone (301) 504-7479.

Instructions: All submissions received must include the agency name and docket number for this notice. CPSC may post all comments without change, including any personal identifiers, contact information, or other personal information provided, to: https://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2010-0041.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Publicly Available Consumer Product Safety Information Database.

OMB Number: 3041-0146.

Type of Review: Renewal of collection.

Frequency of Response: On occasion.

Affected Public: Reports concerning the safety of consumer products can be submitted to the CPSC by consumers; local, state, or federal government agencies; health care professionals; child service providers; public safety entities; and others. A manufacturer or private labeler may submit a comment related to a report of harm.

General Description of Collection: Section 212 of the Consumer Product Safety Improvement Act of 2008 (CPSIA) amended the Consumer Product Safety Act (CPSA) to require CPSC to establish and maintain a publicly available, searchable database on the safety of consumer products, and other products or substances regulated by the agency. Section 6A of the CPSA requires the CPSC to collect reports of harm from the public for potential publication in a publicly available database, and to collect and publish comments from manufacturers about reports of harm.

In 2010, the Commission issued a final rule to establish a Publicly Available Consumer Product Safety Information Database (Database) with the effective date of January 10, 2011. 75 FR 76832 (Dec. 10, 2010). The final rule established provisions regarding submitting reports of harm; providing notice of reports of harm to manufacturers; publishing reports of harm and manufacturer comments in the Database; and dealing with confidential and materially inaccurate information.

The primary purpose of this information collection is to populate the publicly searchable Database of consumer product safety information. The Database information collection has four components: reports of harm, manufacturer comments, branding information, and the Small Batch Manufacturer Registry (SBMR).

Summary of Estimated Burden Hours:

Table 1—Estimated Annual Reporting Burden for Reports of Harm
Collection type | Number of respdnts | Response frequency ¹ | Total annual responses | Minutes per response | Total burden, in hours ²
Reports of Harm—submitted through website | 6,632 | 1.15 | 7,607 | 12 | 1,521
Reports of Harm—submitted by phone | 1,032 | 1.33 | 1,373 | 10 | 229
Reports of Harm—submitted by mail, email, fax | 296 | 3.71 | 1,098 | 20 | 366
Total | 7,960 |  | 10,078 |  | 2,116

Table 2—Estimated Annual Reporting Burden for Manufacturer Submissions
Collection type | Number of respdnts | Response frequency ¹ | Total annual responses | Minutes per response | Total burden, in hours ²
Manufacturer Comments—submitted through website | 543 | 4.45 | 2,418 | 117 | 4,715
Manufacturer Comments—submitted by mail, email, fax | 115 | 1.44 | 166 | 147 | 407
Requests to Treat Information as Confidential—submitted through website | 7 | 1.43 | 10 | 42 | 7
Requests to Treat Information as Confidential—submitted by mail, email, fax | 0 | N/A | 0 | 72 | 0
Requests to Treat Information as Materially Inaccurate—submitted through website | 109 | 1.50 | 164 | 165 | 451
Requests to Treat Information as Materially Inaccurate—submitted by mail, email, fax | 22 | 1.23 | 27 | 195 | 88
Voluntary Brand Identification | 513 | 1.00 | 513 | 10 | 86
Small Batch Manufacturer Identification | 1,747 | 1.00 | 1,747 | 10 | 291
Total | 3,056 |  | 5,045 |  | 6,045

Estimated Number of Respondents: Based on the data set forth in Tables 1 and 2, CPSC estimates 11,016 respondents (7,960 + 3,056). CPSC estimates that approximately 7,960 respondents will submit reports of harm. CPSC estimates that there are approximately 3,056 manufacturers who will provide responsive submissions.

¹ Frequency of responses is calculated by dividing the number of responses by the number of respondents.

² Numbers have been rounded.

Estimated Time per Response: As shown in Table 1, estimated time per response for reports of harm submitted through the website is 12 minutes, reports submitted by phone is 10 minutes, and reports submitted by mail, email or fax is 20 minutes. Table 2 shows the estimated time per response for the various kinds of manufacturer submissions expected: the estimated time per response for manufacturer comments through the website is 117 minutes; comments submitted my mail, email or fax is 147 minutes; requests to treat information as confidential submitted through the website is 42 minutes and those submitted by mail, email or fax is 72 minutes; requests to treat information as materially inaccurate through the website is 165 minutes and those submitted by mail, email or fax is 195 minutes; submissions of voluntary brand information is 10 minutes; and submissions of small batch manufacturer identification is 10 minutes.

Total Estimated Annual Burden: Based on the data in Tables 1 and 2, CPSC estimates the annual burden to be 8,161 hours. This estimate is based on the estimated total estimated annual burdens for reports of harm (2,116 hours) and manufacturer submissions (6,045 hours).

Total Estimated Annual Cost to Respondents: Based on the data in Tables 1 and 2, the annual reporting cost is estimated to be $566,351 ($96,595 + $469,757). This estimate is based on the estimated total figures for reports of harm and manufacturer submissions.

The estimated burden associated with submitting reports of harm based on the estimated total burden hours is $96,595. The estimated costs for submitting reports of harm is based on the estimated total burden hours associated with reports of harm, 2,116 hours, multiplied by an estimated total compensation for all workers in private industry of $45.65 per hour,³ which results in an estimated cost of $96,595 (2,116 hours × $45.65 per hour = $96,595.40).

³ U.S. Department of Labor, Bureau of Labor Statistics, Table 4 of the Employer Costs for Employee Compensation (ECEC), Private Industry workers, by occupational group, June 2025 (data extracted on 11/20/2025 from: https://www.bls.gov/news.release/archives/ecec_09122025.htm.

The estimated burden associated with manufacturer submissions is $469,757. The estimated costs for submitting reports of harm is based on the estimated total burden hours associated with reports of harm, 6,045 hours, multiplied by an estimated total compensation for a manager or professional in goods-producing industries of $77.71 per hour,⁴ which results in an estimated cost of $469,757 (6,045 hours × $77.71 per hour = $469,756.95).

⁴ U.S. Department of Labor, Bureau of Labor Statistics, Table 4 of the Employer Costs for Employee Compensation (ECEC), Private Industry workers, by occupational group, June 2025 (data extracted on 11/20/2025 from: https://www.bls.gov/news.release/archives/ecec_09122025.htm.

Request for Comments

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2025-22970 Filed 12-15-25; 8:45 am]

BILLING CODE 6355-01-P